ENVIRONMENTAL PROTECTION AGENCY

[FRL-7435-9]

Availability of FY 01 Grant Performance Reports for State of North Carolina and Memphis-Shelby County, Tennessee

AGENCY: Environmental Protection Agency (EPA).

ACTION: Notice of availability of grantee performance evaluation reports.

SUMMARY: EPA's grant regulations (40 CFR 35.150) require the Agency to evaluate the performance of agencies which receive grants. EPA's regulations for regional consistency (40 CFR 56.7) require that the Agency notify the public of the availability of the reports of such evaluations. EPA performed end-of-year evaluations of the state air pollution control program at North Carolina Department of Environment and Natural Resources, and the local program at Memphis-Shelby County Health Department, Tennessee. These evaluations were conducted to assess the agencies' performance under the grants awarded by EPA under authority of section 105 of the Clean Air Act. EPA Region 4 has prepared reports for each agency identified above and these reports are now available for public inspection. Evaluations for the other seven states and 15 local governments which have air pollution control programs were published November 18, 2002.

ADDRESSES: The reports may be examined at the EPA's Region 4 office, 61 Forsyth Street, SW, Atlanta, Georgia 30303, in the Air, Pesticides, and Toxics Management Division.

FOR FURTHER INFORMATION CONTACT: Rayna Brown (404) 562-9093. She may be contacted at the above Region 4 address.

Dated: December 23, 2002.
Russell L. Wright, Jr.,
Assistant Regional Administrator, Office of Policy and Management, Region 4.

[FR Doc. 03-284 Filed 1-6-03; 8:45 am]

BILLING CODE 6560-50-P